DEPARTMENT OF LABOR

Office of the Secretary

Submission for OMB Review; Comment Request

May 28, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Occupational Safety and Health Administration, Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title: Personal Protective Equipment (PPE) for Shipyard Employment.

Type of Review: Extension of a currently approved collection.

OMB Number: 1218-0215.

Frequency: On occasion.

Type of Response: Recordkeeping and Third party disclosure.

Affected Public: Business or other for-profit; Not-for-profit institutions; Federal Government; and State, Local or Tribal Government.

Number of Respondents: 665.

Information collection requirement | Annual responses | Average response time (hours) | Annual burden hours
Update or Revise hazard Assessment and Equipment Selection:
Firms with 1-10 employees | 65 | 0.25 | 16
Firms with 11-20 employees | 18 | 0.33 | 6
Firms with 21-99 employees | 29 | 0.40 | 12
Firms with 100-499 employees | 14 | 0.73 | 10
Firms with 500-999 employees | 6 | 1.25 | 7
Firms with 1,000 + employees | 2 | 1.50 | 3
Verification that Hazard Assessment has been Performed:
Maintain certification record for currently trained employees | 68,265 | 0.02 | 1,365
Generate and maintain training documentation for new or retrained employees | 6,827 | 0.05 | 341
Disclose training records to OSHA | 9 | 0.03 | 1
Totals | 75,234 |  | 1,761

Description: The collections of information in the standard are necessary for implementation of the requirements of the Standards. The Standards specify several paperwork requirements. The following sections describe the information-collection requirements, and who will use the information.

(A) Hazard Assessment and Equipment Selection (1915.152(b)). Paragraph 1915.152(b) requires the employer to assess work activities to determine whether there are hazards present, or likely to be present, which necessitate the employee's use of PPE. If such hazards are present, or likely to be present, the employer must: (1) Select the type of PPE that will protect the affected employee from the hazards identified in the occupational-hazard assessment; (2) communicate selection decisions to affected employees; (3) select PPE that properly fits each affected employee; and (4) verify that the required occupational hazard assessment has been performed through a document that contains the following information: Occupation, the date(s) of the hazard assessment, and the name of the person performing the hazard assessment.

(B) Verification That Hazard Assessment Has Been Performed (1915.152(e)(4)). Paragraph 1915.152(e)(4) requires that the employer verify that each affected employee has received the PPE training through a document that contains the following information: Name of each employee trained, the date(s) of training, and the type of training the employee received.

Ira L. Mills,
Departmental Clearance Officer.

[FR Doc. 03-14141 Filed 6-4-03; 8:45 am]

BILLING CODE 4510-26-P